DEPARTMENT OF VETERANS AFFAIRS

[OMB Control No. 2900-0073]

Agency Information Collection Activity: Enrollment Certification

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATE: Comments must be submitted on or before March 14, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0073” in any correspondence.

FOR FURTHER INFORMATION CONTACT: Cynthia Harvey-Pryor, Department Clearance Officer—Ol&T (005R1B), Department of Veterans Affairs, 811 Vermont Avenue NW (Floor 5, area 368), Washington, DC 20420, (202) 461-5870 or email Cynthia.harvey.pryor@va.gov. Please refer to “OMB Control No. 2900-0073” in any correspondence.

SUPPLEMENTARY INFORMATION:

Authority: 44 U.S.C. 3501-3521; 38 U.S.C. 3034, 3241, 3323, 3680; and 3684, 10 U.S.C. 16136, and 16166, 38 CFR 21.4203, 21.5200(d), 21.7152, 21.7652, and 21.9720.

Title: Enrollment Certification (VA Form 22-1999).

OMB Control Number: 2900-0073.

Type of Review: Revision of a currently approved collection.

Abstract: VA uses the information collected on VA Form 22-1999 to determine the amount of educational benefits payable to the trainee during the period of enrollment or training. Additionally, VA also uses these forms to determine whether the trainee has requested an advance payment or accelerated payment of benefits. Without this information, VA would not have a basis upon which to make payment or to know if a person was requesting an advance or accelerated payment.

An agency may not conduct or sponsor, and a person is not required to respond to a collection of information unless it displays a currently valid OMB control number. The Federal Register Notice with a 60-day comment period soliciting comments on this collection of information was published at 82 FR 233 on 12-06-2017, page 57654.

Affected Public: Institutions of Higher Learning.

Estimated Annual Burden: 851,394 hours.

Estimated Average Burden per Respondent: 15 min.

Frequency of Response: Twice Annually.

Estimated Number of Respondents: 1,702,788.

By direction of the Secretary.
Cynthia Harvey-Pryor,
Department Clearance Officer, Office of Quality, Privacy and Risk, Department of Veterans Affairs.

[FR Doc. 2018-02713 Filed 2-9-18; 8:45 am]

BILLING CODE 8320-01-P